FEDERAL RESERVE SYSTEM

Federal Open Market Committee; Domestic Policy Directive of February 1-2, 2000

In accordance with § 71.5 of its rules regarding availability of information (12 CFR part 271), there is set forth below the domestic policy directive issued by the Federal Open Market Committee at its meeting held on February 1-2, 2000.¹

¹ Copies of the Minutes of the Federal Open Market Committee meeting of February 1-2, 2000, which include the domestic policy directive issued at that meeting, are available upon request to the Board of Governors of the Federal Reserve System, Washington, D.C. 20551. The minutes are published in the Federal Reserve Bulletin and in the Board's annual report.

The Federal Open Market Committee seeks monetary and financial conditions that will foster price stability and promote sustainable growth in output. In furtherance of these objectives, the Committee at this meeting established ranges for growth of M2 and M3 of 1 to 5 percent and 2 to 6 percent respectively, measured from the fourth quarter of 1999 to the fourth quarter of 2000. The range for growth of total domestic nonfinancial debt was set at 3 to 7 percent for the year. The behavior of the monetary aggregates will continue to be evaluated in the light of movements in their velocities and developments in prices, the economy, and financial markets.

To further the Committee's long-run objectives of price stability and sustainable economic growth, the Committee in the immediate future seeks conditions in reserve markets consistent with increasing the federal funds rate to an average of around 5¾ percent.

By order of the Federal Open Market Committee, May 1, 2000.
Normand Bernard,
Deputy Secretary, Federal Open Market Committee.

[FR Doc. 00-11260 Filed 5-4-00; 8:45 am]

BILLING CODE 6210-01-P